DEPARTMENT OF TRANSPORTATION

Federal Railroad Administration

[Docket No. FRA-2000-7257; Notice No. 75]

Railroad Safety Advisory Committee; Notice of Emergency Meeting

AGENCY: Federal Railroad Administration (FRA), Department of Transportation (DOT).

ACTION: Announcement of Railroad Safety Advisory Committee (RSAC) Emergency Meeting.

SUMMARY: FRA announces the forty-ninth meeting of the RSAC, a Federal Advisory Committee that develops railroad safety recommendations through a consensus process. The topic of the RSAC meeting will be the July 6, 2013, derailment involving an unattended freight train containing hazardous materials that rolled down a descending grade and subsequently derailed in Lac-Mégantic, Quebec, Canada. At this time, it is estimated that this accident resulted in 42 fatalities, and 5 persons are still reported to be missing. Remarks will be given by the FRA Administrator, Committee members will be briefed on the preliminary findings of the accident, and discussions will involve the safety issues related to the July 6 accident.

DATES: The RSAC meeting is scheduled to commence at 9:00 a.m. on Thursday, August 29, 2013, and will adjourn by 4:30 p.m.

ADDRESSES: The RSAC meeting will be held at the National Housing Center, 1201 15th Street NW., Washington, DC 20005. The meeting is open to the public on a first-come, first-served basis and is accessible to individuals with disabilities. Sign and oral interpretation can be made available if requested 10 calendar days before the meeting.

FOR FURTHER INFORMATION CONTACT: Larry Woolverton, RSAC Administrative Officer/Coordinator, FRA, 1200 New Jersey Avenue SE., Mailstop 25, Washington, DC 20590, (202) 493-6212; or Robert Lauby, Deputy Associate Administrator for Regulatory and Legislative Operations, FRA, 1200 New Jersey Avenue SE., Mailstop 25, Washington, DC. 20590, (202) 493-6474.

SUPPLEMENTARY INFORMATION: Pursuant to Section 10(a)(2) of the Federal Advisory Committee Act (Pub. L. 92-463), FRA is giving notice of a meeting of the RSAC. The RSAC was established to provide advice and recommendations to FRA on railroad safety matters. The RSAC is composed of 54 voting representatives from 32 member organizations, representing various rail industry perspectives. In addition, there are non-voting advisory representatives from the agencies with railroad safety regulatory responsibility in Canada and Mexico, the National Transportation Safety Board, and the Federal Transit Administration. The diversity of the Committee ensures the requisite range of views and expertise necessary to discharge its responsibilities. See the RSAC Web site for details on prior RSAC activities and pending tasks: http://rsac.fra.dot.gov/. Please refer to the notice published in the Federal Register on March 11, 1996 (61 FR 9740), for additional information about the RSAC.

At the August 29 meeting, FRA intends to address the safety requirements that were issued in FRA Emergency Order No. 28 (EO 28) and the recommendations made in Safety Advisory 2013-06. FRA also plans to discuss the safety implications and potential costs and benefits of the requirements contained in Transport Canada's emergency directives, and safety-related initiatives, including possible new RSAC tasks to implement such initiatives.

FRA requests that both freight and passenger railroads be prepared to discuss Transport Canada's directive requiring that two-person crews operate trains carrying hazardous materials on main track. FRA believes that initiatives to require a minimum of two crewmembers for over-the-road trains (including both passenger and freight trains) could enhance safety. FRA expects to discuss formulating a task statement about appropriate train crew size for an RSAC working group to consider.

FRA also requests that RSAC representatives be specifically prepared to discuss two other requirements contained in EO 28. First, FRA intends to discuss the appropriate types and quantities of hazardous materials and the circumstances under which trains transporting such materials should not be left unattended on main track and sidings. EO 28 specifies certain types and quantities of hazardous materials that trigger requirements about train attendance and securement procedures, but FRA, in conjunction with the Pipeline and Hazardous Materials Safety Administration, would like to explore these issues in more detail. This will include a discussion of the various criteria and evaluation processes railroads have used, or intend to use, to formulate plans that they may choose to adopt to identify locations and circumstances where it is safe and suitable to leave trains unattended and secured on main track or sidings outside of yards or terminals.

Robert C. Lauby,
Deputy Associate Administrator for Regulatory and Legislative Operations.

[FR Doc. 2013-19471 Filed 8-9-13; 8:45 am]

BILLING CODE 4910-06-P